DEPARTMENT OF AGRICULTURE

Cooperative State Research, Education, and Extension Service

Request for Proposals (RFP): Special Research Grants Program, Citrus Tristeza Research

AGENCY: Cooperative State Research, Education, and Extension Service, Department of Agriculture.

ACTION: Notice of request for proposals and request for input.

SUMMARY: The Cooperative State Research, Education, and Extension Service (CSREES) announces the availability of grant funds and requests proposals for the Special Research Grants Program, Citrus Tristeza Research for fiscal year (FY) 2000. The purpose of the program is to support research that focuses on problems caused by Citrus Tristeza Virus (CTV) and the Brown Citrus Aphid. This request for proposals (RFP) sets forth procedures to be followed when submitting grant proposals, rules governing the evaluation of proposals, the awarding of grants, and regulations relating to the post-award administration of such grants.

CSREES also is soliciting comments regarding this RFP from any interested party. These comments will be considered in the development of the next RFP for this program. Such comments will be used in meeting the requirements of section 103(c)(2) of the Agricultural Research, Extension, and Education Reform Act of 1998.

DATES: All proposals must be received at USDA on or by April 17, 2000. Proposals not received on or by this date will not be considered for funding.

User comments are requested within six months from the issuance of the RFP. Comments received after that date will be considered to the extent practicable.

ADDRESSES: Proposals should be submitted to the following mailing address: Special Research Grants Program, Citrus Tristeza Research; c/o Proposal Services Unit; Cooperative State Research, Education, and Extension Service; U.S. Department of Agriculture; STOP 2245; 1400 Independence Avenue, SW; Washington, DC 20250-2245.

The address for hand-delivered proposals or proposals submitted using an express mail or overnight courier service is: Special Research Grants Program, Citrus Tristeza Research; c/o Proposal Services Unit; Cooperative State Research, Education, and Extension Service; U.S. Department of Agriculture; Room 303, Aerospace Center; 901 D Street, SW; Washington, DC 20024. Telephone: (202) 401-5048.

Written user comments should be submitted by mail to: Policy and Program Liaison Staff; Office of Extramural Programs; USDA-CSREES; STOP 2299; 1400 Independence Avenue, SW; Washington, DC 20250-2299; or via e-mail to: RFP-OEP@reeusda.gov.

FOR FURTHER INFORMATION CONTACT: Dr. Robin Huettel; Manager, Citrus Tristeza Research Program; Cooperative State Research, Education, and Extension Service; U.S. Department of Agriculture; STOP 2220; 1400 Independence Avenue, SW; Washington, DC 20250-2220; telephone (202) 401-5804; fax (202) 401-6869; internet: rhuettel@reeusda.gov.

SUPPLEMENTARY INFORMATION:

Table of Contents

Part I—General Information

A. Legislative Authority

B. Definitions

C. Eligibility

Part II—Program Description

A. Purpose and Scope of the Program

B. Available Funds and Award Limitations

C. Applicant Peer Review Requirements

Part III—Preparation of a Proposal

A. Program Application Materials

B. Content of a Proposal

Part IV—Submission of a Proposal

A. What to Submit

B. Where and When to Submit

C. Acknowledgment of Proposals

Part V—Selection Process and Evaluation Criteria

A. Selection Process

B. Evaluation Criteria

Part VI—Supplementary Information

A. Access to Review Information

B. Grant Awards

C. Use of Funds; Changes

D. Applicable Federal Statutes and Regulations

E. Confidential Aspects of Proposals and Awards

F. Regulatory Information

G. Stakeholder Input

Part I—General Information

A. Legislative Authority

The authority for this program is contained in section (c)(1)(A) of the Competitive, Special, and Facilities Research Grant Act, section 2 of Pub. L. 89-106, as amended (7 U.S.C. 450i(c)(1)(A)). This program is subject to the administrative regulations found in 7 CFR Part 3400.

In accordance with the statutory authority, the Secretary may make grants for the purpose of conducting research to facilitate or expand promising breakthroughs in areas of the food and agricultural sciences of importance to the United States.

B. Definitions

For the purpose of awarding grants under this program, the following definitions are applicable:

(1) Administrator means the Administrator of the Cooperative State Research, Education, and Extension Service and any other officer or employee of the Department to whom the authority involved may be delegated.

(2) Authorized departmental officer or awarding official means the Secretary or any employee of the Department who has the authority to issue or modify grant instruments on behalf of the Secretary.

(3) Authorized organizational representative means the president, director, chief executive officer, or other designated official of the applicant organization who has the authority to commit the resources of the organization.

(4) Budget period means the interval of time (usually 12 months) into which the project period is divided for budgetary and reporting purposes.

(5) Department or USDA means the United States Department of Agriculture.

(6) Grantee means the organization or entity designated in the grant award document as the responsible legal entity to which a grant is awarded.

(7) Peer review panel or group means an assembled group of experts or consultants qualified by training and experience in particular scientific or technical fields to give expert advice on the scientific and technical merit of grant applications in those fields. The panel members will evaluate eligible proposals submitted to this program in their personal and professional area(s) of expertise.

(8) Prior approval means written approval evidencing prior consent by an authorized departmental officer as defined in (2) above.

(9) Project means the particular activity within the scope of the program supported by a grant award.

(10) Principal Investigator means the single individual designated by the grantee in the grant application and approved by the Administrator who is responsible for the scientific and technical direction of the project.

(11) Project period means the total length of time that is approved by the Administrator for conducting the research project as outlined in an approved grant application.

(12) Secretary means the Secretary of Agriculture and any other officer or employee of the Department to whom the authority involved may be delegated.

C. Eligibility

Proposals may be submitted by State agricultural experiment stations, all colleges and universities, other research institutions and organizations, Federal agencies, private organizations or corporations, and individuals. Although an applicant may be eligible based on its status as one of these entities, other factors may exclude an applicant from receiving Federal assistance under this program (e.g., debarment or suspension, a determination of non-responsibility based on submitted organizational management information).

Part II—Program Description

A. Purpose and Scope of the Program

Proposals are invited for competitive grant awards under the Special Research Grants Program, Citrus Tristeza Research for fiscal year (FY) 2000. The purpose of this grant program is to support research that focuses on problems caused by CTV and the Brown Citrus Aphid. This research should aim to facilitate promising breakthroughs in this important area of the food and agricultural sciences.

CTV is a pathogen of citrus vectored by several aphid species. This disease has been found in all the citrus producing regions of the United States and is of world-wide importance. The virus strain complex can cause a variety of symptoms, from mild to severe, depending upon the host and its environment. Recently, in Florida, a new aphid vector, the Brown Citrus Aphid was introduced. This vector is capable of transmitting a severe stem-pitting form of the virus. The Brown Citrus Aphid also occurs in Central America and the Caribbean Basin and thus poses a threat to citrus in other citrus producing areas in the United States (e.g., Louisiana, Texas, Arizona, and California).

The research priority areas that have been identified are (1) Characterization and detection of CTV strains; (2) biology and control of the Brown Citrus Aphid; (3) host plant resistance; (4) epidemiology and crop loss assessment; and (5) development of cross-protecting CTV strains.

B. Available Funds and Award Limitations

Funds will be awarded on a competitive basis to support research projects that focus on solving problems caused by the CTV and Brown Citrus Aphid. The total amount of funds available in FY 2000 for support of this program is approximately $595,000. Each proposal submitted in FY 2000 shall request funding for a period not to exceed two years. FY 2000 awardees would need to recompete in future years for additional funding.

C. Applicant Peer Review Requirements

Subsection (c)(5) of the Competitive, Special, and Facilities Research Grant Act, as amended (7 U.S.C. 450i(c)(5)), requires applicants to conduct a scientific peer review of a proposed research project in accordance with regulations promulgated by the Secretary prior to the Secretary making a grant award under this authority. Regulations implementing this requirement are set forth in 7 CFR 3400.20. The regulations impose the following requirements for scientific peer review by applicants of proposed research projects:

1. Credible and independent. Review arranged by the grantee must provide for a credible and independent assessment of the proposed project. A credible review is one that provides an appraisal of technical quality and relevance sufficient for an organizational representative to make an informed judgment as to whether the proposal is appropriate for submission for Federal support. To provide for an independent review, such review may include USDA employees, but should not be conducted solely by USDA employees.

2. Notice of completion and retention of records. For FY 2000, CSREES requires that a notice of completion of the review be conveyed in writing to CSREES as part of the submitted proposal. The written notice constitutes certification by the applicant that a review in compliance with these regulations has occurred. Applicants are not required to submit results of the review to CSREES; however, proper documentation of the review process and results should be retained by the applicant.

3. Renewal and supplemental grants. Review by the grantee is not automatically required for renewal or supplemental grants as defined in 7 CFR 3400.6. A subsequent grant award will require a new review if, according to CSREES, either the funded project has changed significantly, other scientific discoveries have affected the project, or the need for the project has changed. Note that a new review is necessary when applying for another standard or continuation grant after expiration of the grant term.

Part III—Preparation of a Proposal

A. Program Application Materials

Program application materials will be made available to interested entities upon request. These materials include information about the purpose of the program, how the program will be conducted, and the required contents of a proposal, as well as the forms needed to prepare and submit grant applications under the program. Program application materials can be downloaded from the Internet at the following website: http://www.reeusda.gov/ipm/funding.htm or may be obtained by writing or calling the following office: Proposal Services Unit; Office of Extramural Programs; Cooperative State Research, Education, and Extension Service; U.S. Department of Agriculture; STOP 2245; 1400 Independence Avenue, SW; Washington, DC 20250-2245; Telephone: (202) 401-5048. When contacting the Proposal Services Unit, please indicate that you are requesting application materials for the FY 2000 Special Research Grants Program, Citrus Tristeza Research. Application materials also may be requested via Internet by sending a message with your name, mailing address (not e-mail) and telephone number to psb@reeusda.gov that states that you wish to receive a copy of the application materials for the FY 2000 Special Research Grants Program, Citrus Tristeza Research. The materials will then be mailed to you (not e-mailed) as quickly as possible.

B. Content of a Proposal

(1) General

The proposal should follow these guidelines, enabling reviewers to more easily evaluate the merits of each proposal in a systematic, consistent fashion:

(a) The proposal should be prepared on only one side of the page using standard size (8½″ x 11″) white paper, one inch margins, typed or word processed using no type smaller than 12 point font regardless of whether it is single or double spaced. Use an easily readable font face (e.g., Geneva, Helvetica, CG Times). Once accepted for review, your proposal will be read by at least three expert reviewers. Thus it is to your advantage to ensure that your proposal is not difficult to read.

(b) Each page of the proposal, including the Project Summary, budget pages, required forms, and appendices, should be numbered sequentially in the upper right-hand corner.

(c) The proposal should be stapled in the upper left-hand corner. Do not bind. An original and 9 copies (10 total) must be submitted in one package, along with 20 copies of the Project Summary as a separate attachment.

(2) Cover Page

Complete Form CSREES-661, Application for Funding, in its entirety. This form is to be utilized as the Cover Page. Form CSREES-661 serves as a source document for the CSREES grant database; it is therefore important that it be completed accurately.

(a) In Block 6, complete the title of the project. The project title must be brief (80-character maximum), yet represent the major thrust of the effort being proposed. Project titles are read by a variety of nonscientific people; therefore, highly technical words or phraseology should be avoided where possible. In addition, introductory phrases such as “investigation of” or “research on” should not be used.

(b) Blocks 7 and 8 should be completed to read “Special Research Grants Program, Citrus Tristeza Research.”

(c) In Block 13, the Type of Award Request is “new.”

(d) In Block 14., note the total amount of Federal dollars being requested.

(e) In Block 15, designate Principal Investigator(s)/Project Directors(s) (PI/PD). Listing multiple co-PIs beyond those required for genuine collaboration is discouraged. Note that providing a Social Security Number is voluntary, but is an integral part of the CSREES information system and will assist in the processing of the proposal.

(f) Type of Performing Organization (Block 18). A check should be placed in the box beside the type of organization which actually will carry out the effort. For example, if the proposal is being submitted by an 1862 Land-Grant institution but the work will be performed in a department, laboratory, or other organizational unit of an agricultural experiment station, box “03” should be checked. If portions of the effort are to be performed in several departments, check the box that applies to the individual listed as PI/PD #1 in Block 15.a.

(g) In Block 22 list the names or acronyms of all other public or private sponsors including other agencies within USDA and other programs funded by CSREES to whom your application has been or will be sent. In the event you decide to send your application to another organization or agency at a later date, you must inform the identified CSREES program manager as soon as practicable. Submitting your proposal to other potential sponsors will not prejudice its review by CSREES; however, duplicate support for the same project will not be provided.

(h) The original copy of the Application for Funding form must contain the pen-and-ink signatures of the PI/PD(s) and authorized organizational representative for the applicant organization.

(i) Note that by signing the Application for Funding form, the applicant is providing the required certifications set forth in 7 CFR Part 3017, regarding Debarment and Suspension and Drug-Free Workplace, and 7 CFR Part 3018, regarding Lobbying. The three certification forms are included in this application package for informational purposes only. It is not necessary to sign and submit the forms to USDA as part of the proposal.

(3) Table of Contents

For consistency and ease in locating information, each proposal must contain a detailed Table of Contents just after the Cover Page. The Table of Contents should include page numbers for each component of the proposal. Page numbers, shown in the upper right-hand corner, should begin with the first page of the Project Summary.

(4) Project Summary

The proposal must contain a Project Summary of 250 words or less on a separate page. The summary must be self-contained and describe the overall goals and relevance of the project. The summary should also contain a listing of the major organizations participating in the project. The Project Summary should immediately follow the Table of Contents. In addition to the summary, this page must include the title of the project, the name of the applicant organization, the authorized organizational representative, and the PI(s), followed by the summary.

(5) Project Narrative

Note: The Project Narrative shall not exceed 10 pages. To ensure fair and equitable competition, reviewers are instructed that they need to read only the first 10 pages of the Project Narrative and to ignore information on additional pages. The Project Narrative should contain the following items:

(a) Objectives—Clear, concise, complete, and logically arranged statement(s) of the specific aims of the proposed effort must be included in all proposals.

(b) Procedures—The procedures or methodology to be applied to the proposed effort should be explicitly stated. This section should include but not necessarily be limited to a description of the proposed investigations and/or experiments in the sequence in which it is planned to carry them out; techniques to be employed, including their feasibility; kinds of results expected; means by which data will be analyzed or interpreted; pitfalls which might be encountered; and limitations to proposed procedures.

(c) Justification—This section should include in-depth information on the magnitude of the problem and its relevance to ongoing food and agricultural research programs; the importance of starting the work during the current fiscal year, and reasons for having the work performed by the proposing institution.

(d) Cooperation and Institutional Units Involved— Cooperative and multi-State applications are encouraged. Identify each institutional unit contributing to the project. Identify each State in a multiple-State proposal and designate the lead State. When appropriate, the project should be coordinated with the efforts of other State and/or national programs. Clearly define the roles and responsibilities of each institutional unit of the project team, if applicable.

If it will be necessary to enter into formal consulting or collaborative arrangements with other individuals or organizations, such arrangements should be fully explained and justified. For purposes of proposal development, informal day-to-day contacts between key project personnel and outside experts are not considered to be collaborative arrangements and thus do not need to be detailed.

All anticipated subcontractual arrangements also should be explained and justified in this section. A proposed statement of work, budget, and budget narrative for each arrangement involving the transfer of substantive programmatic work or the providing of financial assistance to a third party must be provided. Agreements between departments or other units of your own institution and minor arrangements with entities outside of your institution (e.g., requests for outside laboratory analyses) are excluded from this requirement. If you expect to enter into subcontractual arrangements, please note that the provisions contained in 7 CFR part 3019, USDA Uniform Administrative Requirements for Grants and Other Agreements with Institutions of Higher Education, Hospitals, and Other Non-Profit Organizations, and the general provisions contained in 7 CFR 3015.205, USDA Uniform Federal Assistance Regulations, flow down to subcontractors. In addition, when applicable, required clauses from 7 CFR 3019.40 through 3019.48 (“Procurement Standards”) and Appendix A (“Contract Provisions”) should be included in final contractual documents, and it is necessary for the subcontractor to make a certification relating to debarment/suspension.

(e) Literature Review—A summary of pertinent publications with emphasis on their relationship to the effort being proposed should be provided and should include all important and recent publications from other institutions, as well as those from the applicant institution. The citations themselves should be accurate, complete, and written in an acceptable journal format.

(f) Current Work—Current unpublished institutional activities to date in the program area under which the proposal is being submitted should be described.

(g) Facilities and Equipment—All facilities which are available for use or assignment to the project during the requested period of support should be reported and described briefly. Any potentially hazardous materials, procedures, situations, or activities, whether or not directly related to a particular phase of the effort, must be explained fully, along with an outline of precautions to be exercised. Examples include work with toxic chemicals and experiments that may put human subjects or animals at risk.

All items of major instrumentation available for use or assignment to the proposed project should be itemized. In addition, items of nonexpendable equipment not currently accessible and needed to conduct and bring the project to a successful conclusion should be listed, including dollar amounts and, if funds are requested for their acquisition, justified.

(h) Project Timetable—The proposal should outline all important phases as a function of time, year by year, for the entire project, including periods beyond the grant funding period.

(6) Key Personnel

All senior personnel who are expected to be involved in the effort must be clearly identified. For each person, the following should be included:

(a) An estimate of the time commitment involved; and

(b) Vitae of all key persons who are expected to work on the project, whether or not CSREES funds are sought for their support. Each vitae should be limited to two (2) pages in length, excluding publications listings. A chronological list of the most representative publications during the past five (5) years must be provided for each professional project member for whom a vitae appears. Authors should be listed in the same order as they appear on each paper cited, along with the title and complete reference as these usually appear in journals.

(7) Conflict-of-Interest List

A separate Conflict-of Interest List form (Form CSREES-1233) must be submitted for each investigator for whom a curriculum vitae is required. This form is necessary to assist program staff in excluding from proposal review those individuals who have conflicts-of-interest with the project personnel in the grant proposal. The Program Manager must be informed of additional conflicts-of-interest that arise after the proposal has been submitted.

(8) Budget

A detailed budget for each year of requested support must be submitted. In addition, a cumulative budget is required detailing requested support for the overall project period. The budget form may be reproduced as needed by applicants. Funds may be requested under any of the categories listed on the form, provided that the item or service for which support is requested is allowable under the authorizing legislation, the applicable Federal cost principles, and these program guidelines, and can be justified as necessary for the successful conduct of the proposed project. Applicants must also include a budget narrative to explain and justify their budgets. The following guidelines should be used in developing the proposal budget(s):

(a) Salaries and Wages—Salaries and wages are allowable charges and may be requested for personnel who will be working on the project in proportion to the time such personnel will devote to the project. If salary funds are requested, the number of Senior and Other Personnel and the number of CSREES Funded Work Months must be shown in the spaces provided. Grant funds may not be used to augment the total salary or rate of salary of project personnel or to reimburse them for time in addition to a regular full-time salary covering the same general period of employment. Salary funds requested must be consistent with the normal policies of the institution and with the applicable OMB Cost Principles. Administrative and clerical salaries are normally classified as indirect costs. (See Item i. below.) However, if requested under A.2.e., they must be fully justified.

(b) Fringe Benefits—Funds may be requested for fringe benefit costs if the usual accounting practices of your institution provide that institutional contributions to employee benefits (social security, retirement, etc.) be treated as direct costs. Fringe benefit costs may be included only for those personnel whose salaries are charged as a direct cost to the project. See, e.g., OMB Circular No. A-21, Cost Principles for Educational Institutions, for further guidance in this area.

(c) Nonexpendable Equipment—Nonexpendable equipment means tangible nonexpendable personal property including exempt property charged directly to the award having a useful life of more than one year and an acquisition cost of $5,000 or more per unit. (However, institutions may establish lower limits.) As such, items of necessary instrumentation or other nonexpendable equipment should be listed individually by description and estimated cost in the budget narrative. This applies to revised budgets as well, as the equipment item(s) and amount(s) may change.

Note: For projects awarded under the authority of subsection (c)(1)(A) of the Competitive, Special, and Facilities Research Grant Act, no funds will be awarded for the renovation or refurbishment of research spaces; the purchase or installation of fixed equipment in such spaces; or for the planning, repair, rehabilitation, acquisition, or construction of a building or facility.

(d) Materials and Supplies—The types of expendable materials and supplies which are required to carry out the project should be indicated in general terms with estimated costs in the budget narrative.

(e) Travel—The type and extent of travel and its relationship to project objectives should be described briefly and justified. If travel is proposed, provide the purpose, the destination, method of travel, number of persons traveling, number of days, and estimated cost for each trip. If details of a trip are not known at the time of proposal submission, provide a basis for determining the amount requested. Airfare allowances normally will not exceed round-trip jet economy air accommodations. U.S. flag carriers must be used when available. See 7 CFR 3015.205(b)(4) for further guidance.

(f) Publication Costs/Page Charges—Anticipated costs of preparing and publishing results of the research being proposed (including page charges, necessary illustrations, and the cost of a reasonable number of coverless reprints) may be estimated and charged against the grant.

(g) Computer (ADPE) Costs—Reimbursement for the costs of using specialized facilities (such as a university or department-controlled computer mainframe or data processing center) may be requested if such services are required for completion of the work.

(h) All Other Direct Costs—Anticipated direct project charges not included in other budget categories must be itemized with estimated costs and justified in the budget narrative. This applies to revised budgets as well, as the item(s) and dollar amount(s) may change. Examples include space rental at remote locations, subcontractual costs, charges for consulting services, telephone, facsimile, e-mail, shipping costs, and fees for necessary laboratory analyses. You are encouraged to consult the “Instructions for Completing Form CSREES-55, Budget,” of the Application Kit for detailed guidance relating to this budget category.

(i) Indirect Costs—The recovery of indirect costs under this program may not exceed the lesser of the grantee institution's official negotiated indirect cost rate or the equivalent of 19 percent of total Federal funds awarded. This limitation also applies to any subcontractor, and should be reflected in the subcontractor's budget.

(j) Cost-sharing—Cost-sharing is encouraged; however, cost-sharing is not required.

(9) Budget Narrative

All budget categories for which support is requested, must be individually listed (with costs) and justified on a separate sheet of paper and placed immediately behind the Budget Form.

(10) Current and Pending Support

All proposals must list any other current public or private support (including in-house support) to which key personnel identified in the proposal have committed portions of their time, whether or not salary support for person(s) involved is included in the budget for each project. Analogous information must be provided for any pending proposals that are being considered by, or that will be submitted in the near future to, other possible sponsors, including other USDA programs or agencies. Concurrent submission of identical or similar proposals to other possible sponsors will not prejudice proposal review or evaluation by the Administrator for this purpose. However, a proposal that duplicates or overlaps substantially with a proposal already reviewed and funded (or that will be funded) by another organization or agency will not be funded under this program. The application material includes Form CSREES-663, Current and Pending Support, which should be used for listing current and pending support. Note that the project being proposed should be included in the pending section of the form.

(11) Assurance Statement(s) (Form CSREES-662)

A number of situations encountered in the conduct of projects require special assurance, supporting documentation, etc., before funding can be approved for the project. In addition to any other situation that may exist with regard to a particular project, it is expected that some applications submitted in response to these guidelines will include the following:

(a) Recombinant DNA or RNA Research. As stated in 7 CFR 3015.205(b)(3), all key personnel identified in the proposal and all endorsing officials of the proposing organization are required to comply with the guidelines established by the National Institutes of Health entitled, “Guidelines for Research Involving Recombinant DNA Molecules,” as revised. If your project proposes to use recombinant DNA or RNA techniques, the application must so indicate by checking the “yes” box in Block 19 of Form CSREES-661 and by completing Section A of Form CSREES-662. For applicable proposals recommended for funding, Institutional Biosafety Committee approval is required before CSREES funds will be released.

(b) Animal Care. Responsibility for the humane care and treatment of live vertebrate animals used in any grant project supported with funds provided by CSREES rests with the performing organization. Where a project involves the use of living vertebrate animals for experimental purposes, all key project personnel and all endorsing officials of the proposing organization are required to comply with the applicable provisions of the Animal Welfare Act, as amended (7 U.S.C. 2131 et seq.) and the regulations promulgated thereunder by the Secretary in 9 CFR parts 1, 2, 3, and 4 pertaining to the care, handling, and treatment of these animals. If your project will involve these animals or activities, you must check the “yes” box in Block 20 of Form CSREES-661 and complete Section B of Form CSREES-662. In the event a project involving the use of live vertebrate animals results in a grant award, funds will be released only after the Institutional Animal Care and Use Committee has approved the project.

(c) Protection of Human Subjects. Responsibility for safeguarding the rights and welfare of human subjects used in any grant project supported with funds provided by CSREES rests with the performing organization. Guidance on this issue is contained in the National Research Act, Pub. L. 93-348, as amended, and implementing regulations established by the Department under 7 CFR part 1c. If you propose to use human subjects for experimental purposes in your project, you should check the “yes” box in Block 21 of Form CSREES-661 and complete Section C of Form CSREES-662. In the event a project involving human subjects results in a grant award, funds will be released only after the appropriate Institutional Review Board has approved the project.

(12) Compliance With the National Environmental Policy Act (NEPA)

As outlined in 7 CFR part 3407 (the Cooperative State Research, Education, and Extension Service regulations implementing NEPA), the environmental data for any proposed project is to be provided to CSREES so that CSREES may determine whether any further action is needed. In most cases, based on previously funded projects, the preparation of environmental data is not usually required. Certain categories of actions are excluded from the requirements of NEPA.

In order for CSREES to determine whether any further action is needed with respect to NEPA, pertinent information regarding the possible environmental impacts of a particular project is necessary; therefore, Form CSREES-1234, NEPA Exclusions Form, must be included in the proposal indicating whether the applicant is of the opinion that the project falls within a categorical exclusion and the reasons therefor. If it is the applicant's opinion that the proposed project falls within the categorical exclusions, the specific exclusion must be identified. Form CSREES-1234 and supporting documentation should be the last page of the proposal.

Even though a project may fall within the categorical exclusions, CSREES may determine that an Environmental Assessment or an Environmental Impact Statement is necessary for an activity. This will be the case if substantial controversy on environmental grounds exists or if other extraordinary conditions or circumstances are present which may cause such activity to have a significant environmental effect. However, this rarely occurs.

Part IV—Submission of a Proposal

A. What To Submit

An original and nine copies of the complete proposal must be submitted. Each copy of the proposal must be stapled in the upper left-hand corner. DO NOT BIND. In addition, submit 20 copies of the proposal's Project Summary. All copies of the proposal and Project Summary must be submitted in one package.

B. Where and When To Submit

Proposals must be received on or before April 17, 2000. Proposals that are hand-delivered, delivered by courier, or sent via overnight delivery services must be sent or delivered to: Special Research Grants Program, Citrus Tristeza Research; c/o Proposal Services Unit; Office of Extramural Programs; USDA/CSREES; Room 303, Aerospace Center; 901 D Street, SW; Washington, DC 20024; Telephone: (202)401-5048.

Note: Applicants are strongly encouraged to submit their completed proposals via overnight mail or delivery services to ensure timely receipt by the USDA.

Proposals sent via the U.S. Postal Service must be sent to the following address: Special Research Grants Program, Citrus Tristeza Research; c/o Proposal Services Unit; Office of Extramural Programs; USDA/CSREES; STOP 2245; 1400 Independence Avenue, SW; Washington, DC 20250-2245; Telephone: (202) 401-5048.

C. Acknowledgment of Proposals

The receipt of all proposals will be acknowledged in writing or by e-mail, therefore applicants are encouraged to provide e-mail addresses, where designated, on the Form CSREES-661. The acknowledgment will contain an identifying proposal number. Once your proposal has been assigned a proposal number, please cite that number in future correspondence.

Part V—Selection Process and Evaluation Criteria

A. Selection Process

Applicants should submit fully developed proposals that meet all the requirements set forth in this RFP.

Each proposal will be evaluated in a two-part process. First, each proposal will be screened to ensure it meets the requirements as set forth in this RFP. Proposals not meeting the requirements as set forth in this RFP will not be considered for funding. However, USDA retains the right to conduct discussions with applicants to resolve technical and/or budget issues as it deems necessary. Second, each proposal that meets the requirements will be technically evaluated by a peer review panel.

The individual peer panel members will be selected from among those recognized as specialists who are uniquely qualified by training and experience in their respective fields to render expert advice on the merit of proposals being reviewed. The individual reviews of the panel members will be used to determine which proposals should be recommended to the Administrator (or his designee) for final funding decisions.

There is no commitment by USDA to fund any particular proposal or to make a specific number of awards. Care will be taken to avoid actual, potential, and/or the appearance of conflicts of interest among reviewers. Evaluations will be confidential to USDA staff members, peer reviewers, and the principal investigator(s), to the extent permitted by law.

The specificity of these organisms and their host limits the areas in which relevant research can be carried out. The brown citrus aphid has recently been introduced into the citrus growing areas of Florida. Research on both the virus/aphid and on field biology of the aphid is largely conducted in the areas of Florida and Puerto Rico where it is established. CSREES anticipates that the expertise necessary to review proposals will be found at organizations in these geographic areas. Therefore, conflict-of-interest rules will be amended to allow reviewers to evaluate submitted proposals from their own university as long as the applicant and reviewer do not work on the same campus. Thus, for this program, the scientists from the University of Florida but from other campuses (i.e., Research and Education Centers) are not considered to be in conflict.

B. Evaluation Criteria

The evaluation of proposals will be based on the following criteria, weighted relative to each other as noted in the parentheses following each criterion listed.

(1) Overall scientific and technical quality of the proposal (15 points);

(2) Scientific and technical quality of the approach (10 points);

(3) Relevance and importance of proposed research to solution of specific areas of inquiry, and application of expected results for States in which the grantee resides and will perform the work (30 points);

(4) Feasibility of attaining objectives; adequacy of professional training and experience, facilities and equipment (40 points);

(5) The appropriateness of the level of funding requested (5 points).

Part VI—Supplementary Information

A. Access To Review Information

Copies of summary reviews will be sent to the applicant principle investigator automatically, as soon as possible after the review process has been completed. The identity of the individual peer reviewers will not be provided.

B. Grant Awards

(1) General

Within the limit of funds available for such purpose, the awarding official of CSREES shall make grants to those responsible, eligible applicants whose proposals are judged most meritorious under the procedures set forth in this RFP. The date specified by the Administrator as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES under this RFP shall be expended solely for the purpose for which the funds are granted in accordance with the approved application and budget, the regulations, the terms and conditions of the award, the applicable Federal cost principles, and the Department's assistance regulations (parts 3015, 3016, and 3019 of 7 CFR).

(2) Organizational Management Information

Specific management information relating to an applicant shall be submitted on a one-time basis as part of the responsibility determination prior to the award of a grant identified under this part if such information has not been provided previously under this or another program for which the sponsoring agency is responsible. Copies of forms recommended for use in fulfilling the requirements contained in this section will be provided by the sponsoring agency as part of the preaward process.

(3) Grant Award Document and Notice of Grant Award

The grant award document shall include at a minimum the following:

(a) Legal name and address of performing organization or institution to whom the Administrator has awarded a grant under the terms of this request for proposals;

(b) Title of project;

(c) Name(s) and address(es) of principal investigator(s) chosen to direct and control approved activities;

(d) Identifying grant number assigned by the Department;

(e) Project period, specifying the amount of time the Department intends to support the project without requiring recompetition for funds;

(f) Total amount of Departmental financial assistance approved by the Administrator during the project period;

(g) Legal authority(ies) under which the grant is awarded;

(h) Approved budget plan for categorizing allocable project funds to accomplish the stated purpose of the grant award; and

(i) Other information or provisions deemed necessary by CSREES to carry out its respective granting activities or to accomplish the purpose of a particular grant.

The notice of grant award, in the form of a letter, will be prepared and will provide pertinent instructions or information to the grantee that is not included in the grant award document.

CSREES will award standard grants to carry out this program. A standard grant is a funding mechanism whereby CSREES agrees to support a specified level of effort for a predetermined time period without additional support at a future date.

C. Use of Funds; Changes

(1) Delegation of Fiscal Responsibility

Unless the terms and conditions of the grant state otherwise, the grantee may not in whole or in part delegate or transfer to another person, institution, or organization the responsibility for use or expenditure of grant funds.

(2) Changes in Project Plans

(a) The permissible changes by the grantee, principal investigator(s), or other key project personnel in the approved project grant shall be limited to changes in methodology, techniques, or other aspects of the project to expedite achievement of the project's approved goals. If the grantee and/or the principal investigator(s) are uncertain as to whether a change complies with this provision, the question must be referred to the CSREES Authorized Departmental Officer (ADO) for a final determination.

(b) Changes in approved goals or objectives shall be requested by the grantee and approved in writing by the CSREES ADO prior to effecting such changes. In no event shall requests for such changes be approved which are outside the scope of the original approved project.

(c) Changes in approved project leadership or the replacement or reassignment of other key project personnel shall be requested by the grantee and approved in writing by the awarding official of CSREES prior to effecting such changes.

D. Applicable Federal Statutes and Regulations

This program is subject to the administrative provisions for the Special Research Grants Program found in 7 CFR part 3400, which set forth procedures to be followed when submitting grant proposals, the processes regarding the awarding of grants, and regulations relating to the post-award administration of such grants. However, where there are differences between this RFP and the administrative provisions, this RFP shall take precedence to the extent that the administrative provisions authorize such deviations.

Several other Federal statutes and regulations apply to grant proposals considered for review and to project grants awarded under this program. These include but are not limited to:

7 CFR part 3019—USDA implementation of OMB Circular A-110, Uniform Administrative Requirements for Grants and Other Agreements With Institutions of Higher Education, Hospitals, and Other Nonprofit Organizations.

7 CFR part 3052—USDA implementation of OMB Circular No. A-133, Audits of States, Local Governments, and Non-profit Organizations.

E. Confidential Aspects of Proposals and Awards

When a proposal results in a grant, it becomes a part of the record of the Agency's transactions, available to the public upon specific request. Information that the Secretary determines to be of a privileged nature will be held in confidence to the extent permitted by law. Therefore, any information that the applicant wishes to have considered as privileged should be clearly marked as such and sent in a separate statement, two copies of which should accompany the proposal. The original copy of a proposal that does not result in a grant will be retained by the Agency for a period of one year. Other copies will be destroyed. Such a proposal will be released only with the consent of the applicant or to the extent required by law. A proposal may be withdrawn at any time prior to the final action thereon.

F. Regulatory Information

For the reasons set forth in the final Rule-related Notice to 7 CFR part 3015, subpart V (48 FR 29115, June 24, 1983), this program is excluded from the scope of the Executive Order 12372 which requires intergovernmental consultation with State and local officials. Under the provisions of the Paperwork Reduction Act of 1995, as amended (44 U.S.C. chapter 35), the collection of information requirements contained in this Notice have been approved under OMB Document No. 0524-0022.

G. Stakeholder Input

CSREES is soliciting comments regarding this solicitation of applications from any interested party. In your comments, please include the name of the program and the fiscal year of the RFP to which you are responding. These comments will be considered in the development of the next RFP for the program. Such comments will be used in meeting the requirements of section 103(c)(2) of the Agricultural Research, Extension, and Education Reform Act of 1998 (7 U.S.C. 7613(c)(2)). Comments should be submitted as provided for in the ADDRESSES and DATES portions of this Notice.

Done at Washington, D.C., this 28th day of February 2000.
Charles W. Laughlin,
Administrator, Cooperative State Research, Education, and Extension Service.

[FR Doc. 00-5176 Filed 3-2-00; 8:45 am]

BILLING CODE 3410-22-P